FEDERAL COMMUNICATIONS COMMISSION

47 CFR Part 73

[DA 01-2210; MM Docket No. 01-250, RM-10273; MM Docket No. 01-251, RM-10274; MM Docket No. 01-252, RM-10275; MM Docket No. 01-253, RM-10276]

Radio Broadcasting Services: Cheyenne Wells, CO; Flagler, CO; Moberly, MO; Stratton, CO

AGENCY: Federal Communications Commission.

ACTION: Proposed rule.

SUMMARY: This document proposes new allotments to Cheyenne Wells, CO; Flagler, CO; Moberly, MO; and Stratton, CO. The Commission requests comments on a petition filed on behalf of Cheyenne Wells Broadcasting proposing the allotment of Channel 224C1 at Cheyenne Wells, Colorado, as the community's first local aural transmission service. Channel 224C1 can be allotted to Cheyenne Wells in compliance with the Commission's minimum distance separation requirements without any site restriction. The coordinates for Channel 224C1 at Cheyenne Wells are 38-49-16 North Latitude and 102-21-09 West Longitude. See Supplementary Information.

DATES: Comments must be filed on or before November 13, 2001, and reply comments on or before November 27, 2001.

ADDRESSES: Federal Communications Commission, Washington, DC, 20554. In addition to filing comments with the FCC, interested parties should serve the petitioners, as follows: A. Wray Fitch, III, Gammon & Grange, P.C.; 8280 Greensboro Drive, 7th Floor; McLean, Virginia 22102-3807 (Counsel for petitioners for Cheyenne Wells, Colorado; Flagler, Colorado and Stratton, Colorado); and Charles Crawford; 4553 Bordeaux Ave; Dallas, Texas 75205 (Petitioner for Moberly, Missouri.).

FOR FURTHER INFORMATION CONTACT: R. Barthen Gorman, Mass Media Bureau, (202) 418-2180.

SUPPLEMENTARY INFORMATION: This is a synopsis of the Commission's Notice of Proposed Rule Making, MM Docket No. 01-250; MM Docket No. 01-251; MM Docket No. 01-252; and MM Docket No. 01-253, adopted September 12, 2001, and released September 21, 2001. The full text of this document is available for public inspection and copying during regular business hours in the FCC Reference Information Center, Portals II, 445 12th Street, SW., Room CY-A257, Washington, DC, 20554. This document may also be purchased from the Commission's duplicating contractor, Qualex International, Portals II, 445 12th Street, SW., Room CY-B402, Washington, DC, 20554, telephone 202-863-2893, facsimile 202-863-2898, or via e-mail qualexint@aol.com.

The Commission requests comments on a petition filed on behalf of Flagler Broadcasting proposing the allotment of Channel 283C3 at Flagler, Colorado, as the community's first local aural transmission service. Channel 283C3 can be allotted to Flagler in compliance with the Commission's minimum distance separation requirements with a site restriction of 6.5 kilometers (4.1 miles) west of Flagler. The coordinates for Channel 283C3 at Flagler are 39-17-17 North Latitude and 103-08-32 West Longitude.

The Commission requests comments on a petition filed by Charles Crawford proposing the allotment of Channel 223A at Moberly, Missouri, as that community's fifth local aural FM transmission service. Channel 223A can be allotted to Moberly in compliance with the Commission's minimum distance separation requirements at the city reference coordinates with no site restriction. The coordinates for Channel 223A at Moberly are 39-25-06 North Latitude and 92-26-17 West Longitude.

The Commission requests comments on a petition filed on behalf of Stratton Broadcasting proposing the allotment of Channel 246C1 at Stratton, Colorado, as that community's first local aural transmission service. Channel 246C1 can be allotted to Stratton in compliance with the Commission's minimum distance separation requirements with a site restriction of 4.3 kilometers (2.7 miles) east of Stratton. The coordinates for Channel 246C1 at Stratton are 39-18-34 North Latitude and 102-33-17 West Longitude.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR thnsp;1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR Part 73 as follows:

PART 73—RADIO BROADCAST SERVICES

1.The authority citation for Part 73 continues to read as follows:

Authority: 47 U.S.C. 154, 303, 334, and 336.

§ 73.202 [Amended]

1. Section 73.202(b), the Table of FM Allotments under Colorado, is amended by adding Cheyenne Wells, Channel 224C1; Flagler, Channel 283C3; and Stratton, Channel 246C1.

2. Section 73.202(b), the Table of FM Allotments under Missouri, is amended by adding Channel 223A at Moberly.

Federal Communications Commission.
John A. Karousos,
Chief, Allocations Branch, Policy and Rules Division, Mass Media Bureau.

[FR Doc. 01-24863 Filed 10-3-01; 8:45 am]

BILLING CODE 6712-01-P